DEPARTMENT OF JUSTICE

[OMB Number 1117-0043]

Agency Information Collection Activities; Proposed eCollection; eComments Requested; Extension With or Without Change, of a Previously Approved Collection: Drug Questionnaire (DEA-341)

AGENCY: Drug Enforcement Administration, Department of Justice.

ACTION: 30-day notice.

SUMMARY: Department of Justice (DOJ), Drug Enforcement Administration will be submitting the following information collection request to the Office of Management and Budget (OMB) for review and approval in accordance with the Paperwork Reduction Act of 1995. This proposed information collection was previously published in the Federal Register on March 28, 2017, allowing for a 60-day comment period.

DATES: Comments are encouraged and will be accepted for an additional 30 day until July 3, 2017.

FOR FURTHER INFORMATION CONTACT: Written comments and/or suggestions regarding the items contained in this notice, especially the estimated public burden and associated response time, should be directed to Diane E. Filler, Assistant Administrator, Drug Enforcement Administration, Human Resources Division, 8701 Morrissette Drive, Springfield, VA 22152. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Drug Questionnaire.

(3) Agency form number, if any and the applicable component of the Department sponsoring the collection: The form number is DEA-341. The sponsoring component is the Drug Enforcement Administration

(4) Affected public who will be asked or required to respond, as well as a brief abstract: Primary: Individuals. Other: None.

DEA is requesting an extension of a currently approved collection. This collection requires the drug history of any individual seeking employment with DEA. DEA policy states that a past history of illegal drug use may result in ineligibility for employment. The form asks job applicants specific questions about their personal history, if any, of illegal drug use.

(5) An estimate of the total number of respondents and the amount of time estimated for an average respondent to respond/reply: It is estimated that 15,000 respondents will complete each form in approximately 5 minutes.

(6) An estimate of the total public burden (in hours) associated with the collection: There are an estimated 1,250 total annual burden hours associated with this collection.

If additional information is required contact: Melody Braswell, Department Clearance Officer, United States Department of Justice, Justice Management Division, Policy and Planning Staff, Two Constitution Square, 145 N Street NE., Suite 3E.405A, Washington, DC 20530.

Dated: May 30, 2017.
Melody Braswell,
Department Clearance Officer, PRA, U.S. Department of Justice.

[FR Doc. 2017-11409 Filed 6-1-17; 8:45 am]

BILLING CODE 4410-09-P